DEPARTMENT OF COMMERCE

Foreign-Trade Zones Board

Correction: Adopted Proposal for Available Alternative Site-Designation and Management Framework

The Federal Register notice published on January 12, 2009 (74 FR 1170-1173) describing the proposal adopted by the Foreign-Trade Zones Board for an Alternative Site-Designation and Management Framework is corrected as follows. For the element numbered as “9” in the description of the final proposal (regarding “sunset” limits on magnet and usage-driven sites), the third sentence of the paragraph should read as follows: “However, each grantee would have the option of proposing permanent FTZ designation for one magnet site and the FTZ Board could take a range of factors into account in determining the appropriate sunset period for a given site (e.g., nature of the site, public ownership of the site).”

Dated: January 14, 2009.
Andrew McGilvray,
Executive Secretary.

[FR Doc. E9-1113 Filed 1-21-09; 8:45 am]

BILLING CODE 3510-DS-P